DEPARTMENT OF ENERGY

Federal Energy Regulatory Commission

[Project No. 1889-085; Project No. 2485-071]

FirstLight MA Hydro LLC, Northfield Mountain LLC; Notice of Availability of the Draft Environmental Impact Statement for the Turners Falls Hydroelectric and Northfield Mountain Pumped Storage Projects and Public Comment Sessions Soliciting Comments

In accordance with the National Environmental Policy Act of 1969 ¹ and the Federal Energy Regulatory Commission's (Commission) regulations, 18 CFR part 380, the Office of Energy Projects has reviewed the applications for relicense for the Turners Falls Hydroelectric Project (Turners Falls Project) (FERC No. 1889) and Northfield Mountain Pumped Storage Project (Northfield Mountain Project) (FERC No. 2485) and has prepared a draft environmental impact statement (EIS) for the projects. The projects are located on the Connecticut River near the towns of Turners Falls and Northfield (respectively) in Franklin County, Massachusetts.

¹ National Environmental Policy Act of 1969, amended (Pub. L. 91-190. 42 U.S.C. 4321-4347, as amended by Pub. L. 94-52, July 3, 1975, Pub. L. 94-83, August 9, 1975, Pub. L. 97-258, 4(b), September 13, 1982, Pub. L. 118-5, June 3, 2023).

The draft EIS contains staff's analysis of the applicants' proposals and the alternatives for relicensing the Turners Falls and Northfield Mountain projects. The draft EIS documents the views of governmental agencies, non-governmental organizations, affected Native-American tribes, the public, the license applicants, and Commission staff.

The Commission provides all interested persons with an opportunity to view and/or print the draft EIS via the internet through the Commission's Home Page (https://www.ferc.gov/), using the “eLibrary” link. Enter the docket number, excluding the last three digits, in the docket number field to access the document. For assistance, contact FERC Online Support at FERCOnlineSupport@ferc.gov, or toll-free at (866) 208-3676, or for TTY, (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

All comments must be filed on or before 5:00 p.m. Eastern Time on July 29, 2025.

The Commission strongly encourages electronic filing. Please file comments using the Commission's eFiling system at https://ferconline.ferc.gov/eFiling.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket numbers P-1889-085 and P-2485-071.

Anyone may intervene in this proceeding based on this draft EIS (18 CFR 380.10). You must file your request to intervene as specified above.² You do not need intervenor status to have your comments considered.

² Interventions may also be filed electronically via the internet in lieu of paper. See the previous discussion on filing comments electronically.

In addition to or in lieu of sending written comments, you are invited to attend a public comment session that will be held to receive comments on the draft EIS. Commission staff will hold two sessions for the purpose of receiving comments on the draft EIS. All interested individuals and entities will be invited to attend one or both of the sessions. The dates and times of the sessions are listed below.

Evening Comment Session

Date: Wednesday, July 16, 2025.

Time: 6:00 p.m. to 8:00 p.m.

Location: Greenfield Community College, One College Drive, Greenfield, Massachusetts 01301.

Daytime Comment Session

Date: Wednesday, July 16, 2025.

Time: 9:00 a.m. to 11:00 a.m.

Location: Greenfield Community College, One College Drive, Greenfield, Massachusetts 01301.

The sessions will begin promptly at their respective start times listed above. There will not be a formal presentation by Commission staff when the session opens, and you may arrive any time after the scheduled start time. Individual oral comments will be taken on a one-on-one basis with a court reporter (with Commission staff present). This format is designed to receive the maximum number of oral comments in a convenient way during the timeframe allotted. If you wish to speak, Commission staff will hand out numbers in the order of your arrival. If a significant number of people are interested in providing oral comments with the court reporter, a time limit may be implemented for each commentor. Although there will not be a formal presentation, Commission staff will be available throughout the comment session to answer your questions about the environmental review process. Please see the attachment to this notice for additional information on the session format and conduct.

The primary goal of these comment sessions is to have you identify the specific environmental issues and concerns with the draft EIS. Comments will be recorded by the court reporter and become part of the public record for this proceeding. Transcripts will be publicly available on FERC's eLibrary system.

It is important to note that the Commission provides equal consideration to all comments received, whether filed in writing or provided orally at a public comment session. Interested parties who choose not to speak or who are unable to attend the draft EIS comment sessions may provide written comments and information to the Commission as described above.

For further information, contact Steve Kartalia at (202) 502-6131, or stephen.kartalia@ferc.gov.

Dated: May 30, 2025.
Debbie-Anne A. Reese,
Secretary.

[FR Doc. 2025-10270 Filed 6-5-25; 8:45 am]

BILLING CODE 6717-01-P